NUCLEAR REGULATORY COMMISSION

[Docket No. 70-7015-ML; ASLBP No. 10-899-02-ML-BD01]

Atomic Safety and Licensing Board; Notice of Opportunity To Participate in Uncontested/Mandatory Hearing (Procedures for Participation by Interested Governmental Entities Regarding Safety Portion of Enrichment Facility Licensing Proceeding)

October 7, 2010.

Before Administrative Judges: G. Paul Bollwerk, III, Chairman, Dr. Kaye D. Lathrop, Dr. Craig M. White.

In the Matter of Areva Enrichment Services, LLC (Eagle Rock Enrichment Facility)

In this 10 CFR part 70 proceeding regarding the request of applicant AREVA Enrichment Services, LLC, (AES) to construct and operate its proposed Eagle Rock Enrichment Facility in Bonneville County, Idaho, on September 30, 2010, the NRC staff issued its final safety evaluation report (SER) analyzing the Atomic Energy Act (AEA)-related safety aspects of the AES application (NUREG-1951, ADAMS Accession No. ML102710296). In accord with AEA section 274l, 42 U.S.C. 2021(l), on or before Friday, November 12, 2010, using the agency's E-Filing system,¹ any interested State, local governmental body, or affected, federally-recognized Indian Tribe may file with the Licensing Board in this proceeding a statement of any issues or questions about which the State, local governmental body, or Indian Tribe wishes the Board to give particular attention as part of the safety/SER-related portion of the uncontested/mandatory hearing process associated with the AES application and the staff's safety review of that application.² Such a statement may be accompanied by any supporting documentation that the State, local governmental body, or Indian Tribe sees fit to provide. Any statements and supporting documentation (if any) received by the Board by the deadline indicated above will be made part of the record of this proceeding.

¹ The process for accessing and using the agency's E-Filing system is described in the July 23, 2009 notice of hearing that was issued by the Commission for this proceeding. See Notice of Receipt of Application for License; Notice of Consideration of Issuance of License; Notice of Hearing and Commission Order and Order Imposing Procedures for Access to Sensitive Unclassified Non-Safeguards Information and Safeguards Information for Contention Preparation; In the Matter of Areva Enrichment Services, LLC (Eagle Rock Enrichment Facility), 74 FR 38,052, 38,055 (Jul. 30, 2009) (CLI-09-15, 70 NRC 1, 10-11 (2009)).

² The scope of, and procedural protocols associated with, the uncontested/mandatory hearing in this proceeding are set forth in the Licensing Board's orders of May 19, June 4, and June 30, 2010, as well as its October 7, 2010 scheduling order. See Licensing Board Initial Scheduling Order (May 19, 2010) at 3-7 (unpublished); Licensing Board Order (Clarifying Initial Scheduling Order) (June 4, 2010) at 2-5 (unpublished); Licensing Board Order (Setting Aside Hold-Dates for Mandatory Hearings) (June 30, 2010) at 2 (unpublished); Licensing Board Memorandum and Order (Initial General Schedule; Revision to Mandatory Hearing Procedures; Inviting Written Limited Appearance Statements; Participation by Interested Governmental Entities) (Oct. 7, 2010) (unpublished). As the Board's October 7, 2010 memorandum and order also indicates, following the issuance of the staff's final environmental impact statement (EIS), the Board anticipates establishing a schedule to govern IGE participation in the environmental/EIS-related portion of the uncontested/mandatory hearing for this proceeding.

The Board will use such statements and documents as appropriate to inform its prehearing questions to the staff and applicant AES; its inquiries at the oral hearing currently scheduled for the week of January 24, 2011, at the Licensing Board Panel's Rockville, Maryland hearing room; and its decision following the hearing.³ The Board may also request, no later than Thursday, January 13, 2011, that one or more particular States, local governmental bodies, or Indian Tribes send representatives to the hearing to participate as the Board may deem appropriate, including answering Board questions and/or making a statement for the purpose of assisting the Board's exploration of one or more of the issues raised by the State, local governmental body, or Indian Tribe in the prehearing filings described above. The decision on whether to request the presence of representatives of a State, local governmental body, or Indian Tribe at the hearing to participate in the oral hearing is solely at the Board's discretion. The Board's request will specify the issue or issues that the representatives should be prepared to address.

³ States, local governments, or Indian Tribes should be aware that the uncontested/mandatory hearing is separate and distinct from the NRC's contested hearing process, which has not been invoked in this proceeding. While States, local governments, or Indian Tribes participating as described above may take any position they wish, or no position at all, with respect to the AES application or the staff's associated safety review, they should be cognizant that, due to the inherently adversarial nature of such proceedings, many of the procedures and rights applicable to the NRC's contested hearing process generally are not available with respect to this uncontested hearing. Participation in the NRC's contested hearing process is governed by 10 CFR 2.309 (for persons or entities, including States, local governments, or Indian Tribes, seeking to file contentions of their own) and 10 CFR 2.315(c) (for interested States, local governments, and Indian Tribes seeking to participate with respect to contentions filed by others). Participation in this uncontested hearing does not affect the right of a State, local governmental entity, or Indian Tribe to participate in any separate contested hearing process that might be requested relative to this proceeding.

It is so ordered.

For the Atomic Safety and Licensing Board.
Dated: October 7, 2010.
G. Paul Bollwerk, III,
Administrative Judge, Rockville, Maryland.

[FR Doc. 2010-25877 Filed 10-13-10; 8:45 am]

BILLING CODE 7590-01-P